ENVIRONMENTAL PROTECTION AGENCY

[FRL-10261-01-OMS]

Senior Executive Service Performance Review Board; Membership

AGENCY: U.S. Environmental Protection Agency (EPA).

ACTION: Notice.

SUMMARY: Notice is hereby given of the membership of the U.S. Environmental Protection Agency (EPA) Performance Review Board for 2022.

FOR FURTHER INFORMATION CONTACT: Lizabeth Engebretson, Deputy Director, Policy, Planning & Training Division, 3606R, Office of Human Resources, Office of Mission Support, U.S. Environmental Protection Agency, 1300 Pennsylvania Avenue NW, Washington, DC 20460. (202) 564-0804.

SUPPLEMENTARY INFORMATION: Section 4314(c)(1) through (5) of title 5, U.S.C., requires each agency to establish in accordance with regulations prescribed by the Office of Personnel Management, one or more SES performance review boards. This board shall review and evaluate the initial appraisal of a senior executive's performance by the supervisor, along with any recommendations to the appointment authority relative to the performance of the senior executive. Members of the 2022 EPA Performance Review Board are:

Tom Brennan, Director, Science Advisory Board, Office of the Administrator;

Jeffrey Dawson, Senior Science Advisor, Office of Chemical Safety and Pollution Prevention;

Rafael Deleon, Principal Deputy Assistant Administrator, Office of International and Tribal Affairs;

Kerry Drake, Mission Support Division Director, Region 9;

Lizabeth Engebretson, (Ex-Officio) Deputy Director, Policy, Planning and Training Division, Office of Human Resources, Office of Mission Support;

Diana Esher, Deputy Regional Administrator, Region 3;

Vanessa “Kay” Holt, Deputy Director for Management, Center for Public Health & Environmental Assessment, Office of Research and Development;

Meshell Jones-Peeler, Controller, Office of the Chief Financial Officer;

Juan Carlos Hunt, Director, Office of Civil Rights, Office of the Administrator;

Samantha Jones, Associate Director for Risk Assessment, Center for Public Health and Environmental Assessment, Office of Research and Development;

Mara J. Kamen, (Ex-Officio) Director, Office of Human Resources, Office of Mission Support;

Arnold Layne, Deputy Director for Management, Office of Pesticide Programs, Office of Chemical Safety and Pollution Prevention;

Pamela Legare, Director, Office of Acquisition Management, Office of Mission Support;

David Lloyd, Director, Office of Brownfields and Land Revitalization, Office of Land and Emergency Management;

James McDonald, Mission Support Division Director, Region 6;

Karen McGuire, Director, Enforcement & Compliance Assurance Division, Region 1;

Mary Ross, Director, Office of Science Advisor, Policy & Engagement, Office of Research and Development;

Kenneth Schefski, Regional Counsel—Region 8, Office of Enforcement and Compliance Assurance;

Gautam Srinivasan, Associate General Counsel, Air and Radiation Law Office, Office of General Counsel;

Thomas Wall, Director, Watershed Restoration, Assessment and Protection Division, Office of Water;

Richard “Chet” Wayland, Director of the Air Quality Assessment Division, Office of Air Quality Planning and Standards, Office of Air and Radiation.

Dated: November 21, 2022.
Mara J. Kamen,
EPA Deputy Chief Human Capital Officer and Director, Office of Human Resources, Office of Mission Support.

[FR Doc. 2022-26362 Filed 12-2-22; 8:45 am]

BILLING CODE 6560-50-P